SMALL BUSINESS ADMINISTRATION

Wisconsin District Advisory Council; Public Meeting

The Wisconsin District Advisory Council (Wisconsin DAC) of the U.S. Small Business Administration will be conducting a meeting on Wednesday, March 19th 2003, 12 noon-1 p.m. at the MMAC Building 743 North Milwaukee Street on the 4th floor, in Milwaukee, Wisconsin. The meeting is open to the public. Seating is limited and is available on a first come, first serve basis. The focus of the meeting will be on the future goals, activities, and operations of the Wisconsin DAC.

Anyone wishing to attend and make an oral presentation to the Board must contact Yolanda Staples-Lassiter, no later than Monday, March 17, 2003 via e-mail or fax. Yolanda Staples-Lassiter, U.S. Small Business Administration, Milwaukee District Office, 310 West Wisconsin Avenue, Suite 400, Milwaukee, WI 53203, (414) 297-1090 phone or (414) 297-3928, fax or e-mail yolanda.lassiter@sba.gov.

Candace H. Stoltz,
Committee Management Officer.

[FR Doc. 03-4754 Filed 2-27-03; 8:45 am]

BILLING CODE 8025-01-P